SUSQUEHANNA RIVER BASIN COMMISSION

Projects Approved for Consumptive Uses of Water

AGENCY: Susquehanna River Basin Commission.

ACTION: Notice.

SUMMARY: This notice lists the projects approved by rule by the Susquehanna River Basin Commission during the period set forth in DATES.

DATES: May 1-31, 2015.

ADDRESSES: Susquehanna River Basin Commission, 4423 North Front Street, Harrisburg, PA 17110-1788.

FOR FURTHER INFORMATION CONTACT: Jason E. Oyler, Regulatory Counsel, telephone: (717) 238-0423, ext. 1312; fax: (717) 238-2436; email: joyler@srbc.net. Regular mail inquiries may be sent to the above address.

SUPPLEMENTARY INFORMATION: This notice lists the projects, described below, receiving approval for the consumptive use of water pursuant to the Commission's approval by rule process set forth in 18 CFR 806.22(f) for the time period specified above:

Approvals By Rule Issued Under 18 CFR 806.22(f)

1. Inflection Energy LLC, Pad ID: Strouse Well Pad, ABR-201505001, Hepburn Township, Lycoming County, Pa.; Consumptive Use of Up to 4.000 mgd; Approval Date: May 1, 2015.

2. Chesapeake Appalachia, LLC, Pad ID: Bennett NMPY-38, ABR-201009069.R1, Tuscarora Township, Bradford County, Pa.; Consumptive Use of Up to 7.500 mgd; Approval Date: May 4, 2015.

3. Chesapeake Appalachia, LLC, Pad ID: Governale, ABR-201009082.R1, Wysox Township, Bradford County, Pa.; Consumptive Use of Up to 7.500 mgd; Approval Date: May 4, 2015.

4. EXCO Resources (PA), LLC, Pad ID: Sterling Run Club #4, ABR-20090427.R1, Burnside Township, Centre County, Pa.; Consumptive Use of Up to 1.000 mgd; Approval Date: May 4, 2015.

5. EXCO Resources (PA), LLC, Pad ID: Sterling Run Club #5, ABR-20090428.R1, Burnside Township, Centre County, Pa.; Consumptive Use of Up to 1.000 mgd; Approval Date: May 4, 2015.

6. SWEPI LP, Pad ID: Halteman 611, ABR-20100406.R1, Delmar Township, Tioga County, Pa.; Consumptive Use of Up to 4.000 mgd; Approval Date: May 4, 2015.

7. SWEPI LP, Pad ID: Wood 512, ABR-20100415.R1, Rutland Township, Tioga County, Pa.; Consumptive Use of Up to 1.000 mgd; Approval Date: May 4, 2015.

8. SWEPI LP, Pad ID: Lange 447, ABR-20100428.R1, Delmar Township, Tioga County, Pa.; Consumptive Use of Up to 1.000 mgd; Approval Date: May 4, 2015.

9. SWEPI LP, Pad ID: Clark 486, ABR-20100429.R1, Sullivan Township, Tioga County, Pa.; Consumptive Use of Up to 4.000 mgd; Approval Date: May 4, 2015.

10. Chesapeake Appalachia, LLC, Pad ID: Alberta, ABR-201009007.R1, Albany Township, Bradford County, Pa.; Consumptive Use of Up to 7.500 mgd; Approval Date: May 5, 2015.

11. Chesapeake Appalachia, LLC, Pad ID: Simpson, ABR-201007030.R1, West Burlington Township, Bradford County, Pa.; Consumptive Use of Up to 7.500 mgd; Approval Date: May 5, 2015.

12. Chesapeake Appalachia, LLC, Pad ID: Keeler Hollow, ABR-201009041.R1, Smithfield Township, Bradford County, Pa.; Consumptive Use of Up to 7.500 mgd; Approval Date: May 5, 2015.

13. Chesapeake Appalachia, LLC, Pad ID: Driscoll, ABR-201009061.R1, Overton Township, Bradford County, Pa.; Consumptive Use of Up to 7.500 mgd; Approval Date: May 5, 2015.

14. Chesapeake Appalachia, LLC, Pad ID: Delhagen, ABR-201009066.R1, Rush Township, Susquehanna County, Pa.; Consumptive Use of Up to 7.500 mgd; Approval Date: May 5, 2015.

15. Chesapeake Appalachia, LLC, Pad ID: Rain, ABR-201009077.R1, Elkland Township, Sullivan County, Pa.; Consumptive Use of Up to 7.500 mgd; Approval Date: May 5, 2015.

16. Chesapeake Appalachia, LLC, Pad ID: Connell, ABR-201009084.R1, Cherry Township, Sullivan County, Pa.; Consumptive Use of Up to 7.500 mgd; Approval Date: May 5, 2015.

17. Chesapeake Appalachia, LLC, Pad ID: Hope, ABR-201009102.R1, Meshoppen Township, Wyoming County, Pa.; Consumptive Use of Up to 7.500 mgd; Approval Date: May 5, 2015.

18. SWEPI, LP, Pad ID: Davis 841, ABR-201505002, Chatham Township, Tioga County, Pa.; Consumptive Use of Up to 4.000 mgd; Approval Date: May 8, 2015.

19. Anadarko E&P Onshore LLC, Pad ID: Larry's Creek F&G Pad D, ABR-20100684.R1, Cummings Township, Lycoming County, Pa.; Consumptive Use of Up to 3.000 mgd; Approval Date: May 8, 2015.

20. Chesapeake Appalachia, LLC, Pad ID: Stoudt, ABR-201009011.R1, Overton Township, Bradford County, Pa.; Consumptive Use of Up to 7.500 mgd; Approval Date: May 8, 2015.

21. Chesapeake Appalachia, LLC, Pad ID: Matt, ABR-201009073.R1, Elkland Township, Sullivan County, Pa.; Consumptive Use of Up to 7.500 mgd; Approval Date: May 8, 2015.

22. EOG Resources, Inc., Pad ID: HOPPAUGH 2H, ABR-20091120.R1, Springfield Township, Bradford County, Pa.; Consumptive Use of Up to 1.999 mgd; Approval Date: May 8, 2015.

23. Chesapeake Appalachia, LLC, Pad ID: Vera, ABR-201009001.R1, Fox Township, Sullivan County, Pa.; Consumptive Use of Up to 7.500 mgd; Approval Date: May 11, 2015.

24. Chesapeake Appalachia, LLC, Pad ID: Boyanowski, ABR-201009076.R1, Meshoppen and Braintrim Townships, Wyoming County, Pa.; Consumptive Use of Up to 7.500 mgd; Approval Date: May 11, 2015.

25. Chesapeake Appalachia, LLC, Pad ID: Hopson, ABR-201010004.R1, Asylum Township, Bradford County, Pa.; Consumptive Use of Up to 7.500 mgd; Approval Date: May 13, 2015.

26. EQT Production Company, Pad ID: Hurd, ABR-20090802.R1, Ferguson Township, Clearfield County, Pa.; Consumptive Use of Up to 3.000 mgd; Approval Date: May 13, 2015.

27. EQT Production Company, Pad ID: Whippoorwill, ABR-201102024.R1, Shippen Township, Cameron County, Pa.; Consumptive Use of Up to 3.000 mgd; Approval Date: May 13, 2015.

28. XTO Energy Incorporated, Pad ID: Tome 8522H, ABR-20100556.R1, Moreland Township, Lycoming County, Pa.; Consumptive Use of Up to 4.000 mgd; Approval Date: May 13, 2015.

29. XTO Energy Incorporated, Pad ID: Brown 8519H, ABR-20100604.R1, Moreland Township, Lycoming County, Pa.; Consumptive Use of Up to 4.000 mgd; Approval Date: May 13, 2015.

30. Cabot Oil & Gas Corporation, Pad ID: WarrinerS P1, ABR-201505003, Bridgewater Township, Susquehanna County, Pa.; Consumptive Use of Up to 4.250 mgd; Approval Date: May 15, 2015.

31. Cabot Oil & Gas Corporation, Pad ID: HousenickJ P1, ABR-201505004, Rush Township, Susquehanna County, Pa.; Consumptive Use of Up to 4.250 mgd; Approval Date: May 15, 2015.

32. Chesapeake Appalachia, LLC, Pad ID: SGL 289B, ABR-201009009.R1, West Burlington Township, Bradford County, Pa.; Consumptive Use of Up to 7.500 mgd; Approval Date: May 15, 2015.

33. Chesapeake Appalachia, LLC, Pad ID: Lemoreview Farms, ABR-201010003.R1, Leroy Township, Bradford County, Pa.; Consumptive Use of Up to 7.500 mgd; Approval Date: May 15, 2015.

34. Chesapeake Appalachia, LLC, Pad ID: Craige, ABR-201010009.R1, Rush Township, Susquehanna County, Pa.; Consumptive Use of Up to 7.500 mgd; Approval Date: May 15, 2015.

35. Chesapeake Appalachia, LLC, Pad ID: Drake, ABR-201010066.R1, Litchfield Township, Bradford County, Pa.; Consumptive Use of Up to 7.500 mgd; Approval Date: May 15, 2015.

36. Chesapeake Appalachia, LLC, Pad ID: Mobear, ABR-201012006.R1, Wilmot Township, Bradford County, Pa.; Consumptive Use of Up to 7.500 mgd; Approval Date: May 15, 2015.

37. EQT Production Company, Pad ID: Doe, ABR-201102023.R1, Shippen Township, Cameron County, Pa.; Consumptive Use of Up to 3.000 mgd; Approval Date: May 15, 2015.

38. Anadarko E&P Onshore LLC, Pad ID: COP Tr 344 Pad A, ABR-20100694.R1, Noyes Township, Clinton County, Pa.; Consumptive Use of Up to 3.000 mgd; Approval Date: May 22, 2015.

39. Chesapeake Appalachia, LLC, Pad ID: Williams, ABR-201009031.R1, Ulster Township, Bradford County, Pa.; Consumptive Use of Up to 7.500 mgd; Approval Date: May 22, 2015.

40. Chesapeake Appalachia, LLC, Pad ID: Landmesser, ABR-201010019.R1, Towanda Township, Bradford County, Pa.; Consumptive Use of Up to 7.500 mgd; Approval Date: May 22, 2015.

41. Chesapeake Appalachia, LLC, Pad ID: Gemm, ABR-201010049.R1, Litchfield Township, Bradford County, Pa.; Consumptive Use of Up to 7.500 mgd; Approval Date: May 22, 2015.

42. SWEPI, LP, Pad ID: Topf 416, ABR-20100443.R1, Delmar Township, Tioga County, Pa.; Consumptive Use of Up to 4.000 mgd; Approval Date: May 22, 2015.

43. Talisman Energy USA, Inc., Pad ID: Frost 2, ABR-201505005, Orange Town, Schuyler County, N.Y.; Consumptive Use of Up to 0.080 mgd; Approval Date: May 22, 2015.

44. Talisman Energy USA, Inc., Pad ID: Calabro T1, ABR-201505006, Orange Town, Schuyler County, N.Y.; Consumptive Use of Up to 0.080 mgd; Approval Date: May 22, 2015.

45. Talisman Energy USA, Inc., Pad ID: Calabro T2, ABR-201505007, Orange Town, Schuyler County, N.Y.; Consumptive Use of Up to 0.080 mgd; Approval Date: May 22, 2015.

46. Talisman Energy USA, Inc., Pad ID: Webster T1, ABR-201505008, Orange Town, Schuyler County, N.Y.; Consumptive Use of Up to 0.080 mgd; Approval Date: May 22, 2015.

47. Talisman Energy USA, Inc., Pad ID: Drumm G2, ABR-201505009, Bradford Town, Steuben County, N.Y.; Consumptive Use of Up to 0.080 mgd; Approval Date: May 22, 2015.

48. Chesapeake Appalachia, LLC, Pad ID: Sidonio, ABR-201010025.R1, Ulster Township, Bradford County, Pa.; Consumptive Use of Up to 7.500 mgd; Approval Date: May 22, 2015.

49. Chesapeake Appalachia, LLC, Pad ID: Folta, ABR-201010044.R1, Tuscarora Township, Bradford County, Pa.; Consumptive Use of Up to 7.500 mgd; Approval Date: May 22, 2015.

50. Chesapeake Appalachia, LLC, Pad ID: Phillips, ABR-201010050.R1, Elkland Township, Sullivan County, Pa.; Consumptive Use of Up to 7.500 mgd; Approval Date: May 22, 2015.

51. Chesapeake Appalachia, LLC, Pad ID: Shores, ABR-201010064.R1, Sheshequin Township, Bradford County, Pa.; Consumptive Use of Up to 7.500 mgd; Approval Date: May 22, 2015.

52. Chesapeake Appalachia, LLC, Pad ID: Juser, ABR-201010065.R1, Rush Township, Susquehanna County, Pa.; Consumptive Use of Up to 7.500 mgd; Approval Date: May 22, 2015.

53. Chesapeake Appalachia, LLC, Pad ID: Scrivener, ABR-201010005.R1, Rome Township, Bradford County, Pa.; Consumptive Use of Up to 7.500 mgd; Approval Date: May 26, 2015.

54. Chesapeake Appalachia, LLC, Pad ID: Goll, ABR-201010016.R1, Ulster Township, Bradford County, Pa.; Consumptive Use of Up to 7.500 mgd; Approval Date: May 26, 2015.

55. Chesapeake Appalachia, LLC, Pad ID: Grant, ABR-201010051.R1, Smithfield Township, Bradford County, Pa.; Consumptive Use of Up to 7.500 mgd; Approval Date: May 26, 2015.

56. Cabot Oil & Gas Corporation, Pad ID: FraserE P1, ABR-201009052.R1, Forest Lake Township, Susquehanna County, Pa.; Consumptive Use of Up to 3.575 mgd; Approval Date: May 29, 2015.

Authority: Pub. L. 91-575, 84 Stat. 1509 et seq., 18 CFR parts 806, 807, and 808.

Dated: June 19, 2015.
Stephanie L. Richardson,
Secretary to the Commission.

[FR Doc. 2015-15580 Filed 6-24-15; 8:45 am]

BILLING CODE 7040-01-P